DEPARTMENT OF HEALTH AND HUMAN SERVICES

Administration for Children and Families

Proposed Information Collection Activity; State Plan for the Temporary Assistance for Needy Families (TANF) (OMB #: 0970-0145)

AGENCY: Office of Family Assistance, Administration for Children and Families, HHS.

ACTION: Request for public comment.

SUMMARY: The Administration for Children and Families (ACF) is requesting a 3-year extension of the State Plan for the Temporary Assistance for Needy Families (TANF) (TANF State Plan; OMB #0970-0145, expiration 5/31/2022). There are no changes requested to this information collection.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The TANF State Plan is a mandatory statement submitted to the Secretary of the Department of Health and Human Services by the state. It consists of an outline specifying how the state's TANF program will be administered and operated and certain required certifications by the state's Chief Executive Officer. It is used to provide the public with information about the program.

Authority to require states to submit a state TANF plan is contained in section 402 of the Social Security Act, as amended by Public Law 104-193, the Personal Responsibility and Work Opportunity Reconciliation Act of 1996. States are required to submit new plans within a 27-month period.

Respondents: The 50 States of the United States, the District of Columbia, Guam, Puerto Rico, and the Virgin Islands.

Annual Burden Estimates
Instrument | Total number of respondents per year | Total number of annual responses per respondent | Average burden hours per response | Annual burden hours
Title Amendments | 18 | 1 | 3 | 54
State TANF plan | 18 | 1 | 30 | 540

Estimated Total Annual Burden Hours: 594.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 402 of the Social Security Act (42 U.S.C. 602), as amended by Pub. L. 104-193, the Personal Responsibility and Work Opportunity Reconciliation Act of 1996.

Mary B. Jones,
ACF/OPRE Certifying Officer.

[FR Doc. 2022-07459 Filed 4-7-22; 8:45 am]

BILLING CODE 4184-36-P